ENVIRONMENTAL PROTECTION AGENCY

[FRL-7059-2]

U.S.-Mexico Border Grants; Request for Proposals

AGENCY: Environmental Protection Agency (EPA).

ACTION: Notice.

SUMMARY: The U.S. Environmental Protection Agency is requesting grant proposals from U.S. nongovernment organizations, municipalities, federally recognized tribes, communities, higher education facilities, and public schools for projects within the U.S.-Mexico Border Region, defined in the La Paz Agreement (1983) as that area within 100 km on either side of the inland and maritime U.S.-Mexico Border.

DATES: The original proposal plus one (1) copy must be mailed to the appropriate regional contact (see below) for the state in which the project will occur, no later than November 5, 2001. Proposals postmarked after that date will not be considered for funding. EPA expects to announce grant awards in January 2002. Applicants should anticipate project start dates no earlier than April 1, 2002. Grants will be managed separately by EPA staff in Region 6 and Region 9.

ADDRESSES: Grant Applications should be submitted to: Region 6 (TX, NM), Alfredo Coy, U.S.-Mexico Border Program (6PD), U.S. Environmental Protection Agency, Region 6, 1445 Ross Avenue, Suite 1200, Dallas, TX 75202-2733, Telephone: 214-665-2206; E-mail: <coy.alfredo@epa.gov>. Region 9 (CA, AZ): Dave Fege, Assistant Director, San Diego Border Liaison Office, U.S. Environmental Protection Agency, Region 9, 610 West Ash Street, San Diego, CA 92101, Telephone: 619-235-4765, E-mail: <fege.dave@epa.gov>.

FOR FURTHER INFORMATION CONTACT: Region 6 (TX, NM), Alfredo Coy, U.S.-Mexico Border Program (6PD), U.S. Environmental Protection Agency, Region 6, 1445 Ross Avenue, Suite 1200, Dallas, TX 75202-2733, Telephone: 214-665-2206; E-mail: coy.alfredo@epa.gov. Region 9 (CA, AZ): Dave Fege, Assistant Director, San Diego Border Liaison Office, U.S. Environmental Protection Agency, Region 9, 610 West Ash Street, San Diego, CA 92101, Telephone: 619-235-4765, E-mail: fege.dave@epa.gov.

Additional copies of this grant application can be obtained through the EPA Border Liaison Offices located in El Paso (915-533-7273); San Diego (619-235-4765); or call 1-800-334-0741.

SUPPLEMENTARY INFORMATION:

Introduction

This is a regionally managed grants program whose goals and objectives directly relate to and are linked with the Border XXI Program. Successful grant applications will meet objectives of the Border XXI Program as outlined in the U.S.-Mexico Border XXI Program Framework Document and/or the annual Implementation Plans (1996, 1997-1998, 1998, & 1999). The mission of the U.S.-Mexico Border XXI Program is to protect public health and natural resources, and encourage sustainable development along the U.S.-Mexico border. For purposes of this grants program, sustainable development is defined as “conservation oriented social and economic development that emphasizes the protection and sustainable use of resources, while addressing both current and future needs, and present and future impacts of human actions as defined in the Border XXI environmental program developed by U.S. and Mexican authorities (for further information see the Border Environmental Cooperation Commission Project Certification Criteria). This definition is based on the internationally accepted sustainable development definition from the Rio Declaration on Environment and Development: development that meets the needs of the present without compromising the ability of future generations to meet their own needs.

A total of $125,000 will be awarded in each of Regions 6 and 9.The maximum amount for any single grant award will be $25,000.

Entities receiving grants under this program are required to contribute a minimum 5% matching share (in dollars or in-kind goods/services). For example, to calculate the minimum matching share for federal funding of $25,000 use the following formula: $25,000 ÷ 95% = 26,315.79, subtract the grant amount from that figure, $26,315.79−$25,000 = $1,315.79.

The resulting figure, $1,315.79, is applicant's matching share.

The U.S.-Mexico Border Grants Program strongly encourages partnering with community members, business, and government agencies to work cooperatively to identify and develop innovative, effective and efficient projects.

Eligibility

Applicants who are eligible to receive these grants include, but are not limited to, the following: U.S. county and city governments, U.S. councils of government, U.S. Indian tribes, U.S. community-based organizations (CBOs), and U.S. public schools and universities. Special consideration will be given to U.S. CBOs, public schools, community colleges, and nongovernment organizations who meet the above criteria and submit a complete proposal by the stated deadline.

No awards will be granted for the purchase of equipment for projects or for maintaining existing equipment.

Applicants must identify the environmental statute the project will address. Projects must fall within one of the below environmental statutes:

a. Clean Water Act, Section 104(b)(3): conduct and promote research investigations, experiments, training, demonstrations, surveys, and studies relating to the causes, effects, extent, prevention, reduction, and elimination of water pollution.

b. Safe Drinking Water Act, Section 1442(b)(3): develop, expand, or carry out a program (that may combine training, education, and employment) for occupations relating to the public health aspects of providing safe drinking water.

c. Solid Waste Disposal Act, Section 8001(a): conduct and promote the coordination of research, investigations, experiments, training, demonstrations, surveys, public education programs and studies relating to solid waste.

d. Clean Air Act, Section 103(b)(3): conduct and promote the coordination and acceleration of research, investigations, experiments, demonstrations, surveys, and studies relating to the causes, effects (including health and welfare effects), extent, prevention, and control of air pollution.

e. Toxic Substances Control Act, Section 10(a): conduct research, development of monitoring activities on toxic substances.

f. Comprehensive Environmental Response Compensation and Liability Act, Section 311(a): conduct basic research and training related to the detection, assessment, and evaluation of the risks and human effects of exposure to hazardous substances.

Applications

The original and one (1) copy of the project proposal must be sent to the regional contact listed below for the state in which the project will take place. Proposals are limited to one (1) cover page and a five (5) page, double spaced narrative of the proposed project. Proposals must include the following:

(1) Cover Sheet (not to exceed one page) that must include:

(a) Project title;

(b) Applicant's name, address, phone number and organization type (i.e., community college, nongovernment organization, tribe);

(c) A list identifying project staff;

(d) A list of entities or organizations that will be providing matching funds to the project and their organization type; and

(e) Environmental statute that the project will address (see Eligibility above).

(2) Narrative (not to exceed five pages, double spaced) that must include:

(a) Project goals;

(b) Workplan;

(c) Proposed schedule for the workplan;

(d) Anticipated results, measures of success, and “where possible— anticipated environmental improvements as a direct result of project implementation;

(e) Budget (i.e., salaries, supplies, travel, consultants, other direct costs, and overhead); and

(f) Plan for evaluating the success of the project.

The proposal must also include letters of commitment from all contributing partners matching funds to the project. These letters must specify the nature of the match (whether it is in-kind services or cash) and the estimated dollar value of the match. These attachments will not be counted in the five (5) page narrative limit. Any other attachments or enclosures will not be considered as part of the proposal.

Final Report

Upon completion of the project , one (1) final report will be required which includes the following information: (a) description of project results, including an evaluation of overall project performance and any environmental improvements directly resulting from project implementation, and (b) financial report. Grants are subject to audit.

Criteria

EPA will use the following evaluation criteria in reviewing proposals:

• The application presents a clear description of a U.S.-Mexico border transboundary issue or concern (20 points);

• The application identifies realistic goals in addressing objectives and priorities as outlined in the U.S.-Mexico Border XXI Program Framework Document and/or annual Implementation Plans (20 points);

• The proposed project focuses on sustainable development, practices and improvements in the following areas: environmental health, risk reduction, hazardous and solid waste reduction, recycling, and water conservation at the local and/or regional level, defined above (20 points);

• The proposal outlines how the applicant will measure improvements in one or more of the above mentioned areas resulting from implementation of the project (15 points);

• The application involves a number and variety of bi-national and U.S.-Mexico border collaborators (i.e., community, nongovernment organizations, Indian tribes, local and regional governments, schools, and universities) (15 points);

• Project funding will be utilized as seed money, supporting innovative projects that would empower communities to take an integral role in protecting their environment (10 points).

No awards will be granted for the purchase of equipment for projects or for maintaining existing equipment.

Gregg A. Cooke,
Regional Administrator, U.S. EPA Region 6.

[FR Doc. 01-23461 Filed 9-19-01; 8:45 am]

BILLING CODE 6560-50-P